Title 3—

The President

Proclamation 10271 of September 30, 2021

National Domestic Violence Awareness and Prevention Month, 2021

By the President of the United States of America

A Proclamation

For too long, domestic violence was considered a “family issue” and was left for families to address in private. That is why, decades ago, I created and pushed for the Violence Against Women Act (VAWA) to be passed. Today, we recognize the important roles of the public and private sectors, non-profit organizations, communities, and individuals in helping to prevent and address domestic violence and create a culture that refuses to tolerate abuse. Domestic violence affects millions of people in the United States, causes significant harm to the physical and mental health of survivors and their families, undermines their economic stability and overall well-being, and is a stain on the conscience of our country. While significant progress has been made in reducing domestic violence and improving services and support for survivors, much work remains to be done to expand prevention efforts and provide greater access to safety and healing. During National Domestic Violence Awareness and Prevention Month, we come together to reaffirm our commitment to ending domestic violence and supporting survivors.

Domestic violence is an abuse of power that tears apart the fabric of relationships and families and undermines the well-being of communities. One in 4 women and 1 in 10 men have experienced sexual violence, physical violence, or stalking by an intimate partner during their lifetime. Homicide is one of the leading causes of death in the United States for women under the age of 44, and nearly half are killed by a current or former male intimate partner. During the COVID-19 pandemic, domestic violence has become a pandemic within a pandemic, with many victims facing the added pressures of increased economic insecurity, increased time in isolation with their abusers, and limited contact with their support networks. This has made it even more difficult for victims to access the lifesaving services and support they need.

To strengthen our response to domestic violence and all forms of gender-based violence, my American Rescue Plan allocated an additional $450 million to increase support for domestic violence and sexual assault service providers and to further assist survivors in their short- and long-term transition away from their abusers. It also includes a historic commitment to funding culturally-specific community-based organizations to address the needs of survivors in historically marginalized communities. My Administration also allocated an additional $550 million for domestic violence shelters and supportive service providers to develop and employ COVID-19 detection and mitigation strategies and help survivors access health care during the pandemic. In the Fiscal Year 2022 budget, I proposed an historic $1 billion for grant programs administered by the Department of Justice's Office on Violence Against Women, and more than doubled investments through the Family Violence Prevention and Services Act. I was also proud to sign into law the Victims of Crime Act Fix to Sustain the Crime Victims Fund Act, which increases resources available to help thousands of survivors of domestic violence.

To accelerate this progress, the White House Gender Policy Council is working to develop our Nation's first ever National Action Plan to End Gender-Based Violence and the Council is collaborating with the Department of State and other Federal agencies to update and strengthen our Strategy to Prevent and Respond to Gender-Based Violence Globally. My Administration is also working to prevent and improve the response to intimate partner violence in our military and pushing to strengthen VAWA. Authoring and championing VAWA remains one of my proudest legislative achievements as a Senator, and its reauthorization is long overdue. Legislation to reauthorize and strengthen VAWA, which already passed the House of Representatives with bipartisan support, would reduce intimate partner homicides by strengthening common sense gun laws, expand protections for Native American survivors, increase access to safe housing, expand training for trauma-informed policing, and support programs centered on restorative practices. We are also committed to reauthorizing the Family Violence Prevention and Services Act to strengthen efforts to address domestic violence as a public health issue and to increase support for life-saving services and prevention programs across the Nation.

During National Domestic Violence Awareness and Prevention Month, we honor the tremendous dedication of advocates and service providers, honor the courage and resilience of survivors, and recommit ourselves to standing with them for safety, dignity, and justice. There is still much work to do, and it will take all of us to do it. We must rededicate ourselves to creating a society where domestic violence is not tolerated, where survivors are supported, and where all people have an opportunity to thrive without fear of violence or abuse.

NOW, THEREFORE, I, JOSEPH R. BIDEN JR., President of the United States of America, by virtue of the authority vested in me by the Constitution and the laws of the United States, do hereby proclaim October 2021 as National Domestic Violence Awareness and Prevention Month. I call on all Americans to speak out against domestic violence and support efforts to educate young people about healthy relationships centered on respect; support victims and survivors in your own families and networks; and to support the efforts of victim advocates, service providers, health care providers, and the legal system, as well as the leadership of survivors, in working to end domestic violence.

IN WITNESS WHEREOF, I have hereunto set my hand this thirtieth day of September, in the year of our Lord two thousand twenty-one, and of the Independence of the United States of America the two hundred and forty-sixth.

[FR Doc. 2021-21895

Filed 10-4-21; 11:15 am]

Billing code 3395-F2-P